DEPARTMENT OF THE INTERIOR

Establishment of the 21st Century Conservation Service Corps Advisory Committee

AGENCY: Office of the Secretary, Interior.

ACTION: Notice and call for nominations.

SUMMARY: The Department of the Interior is announcing the establishment of the 21st Century Conservation Service Corps Advisory Committee (Committee). The purpose of the Committee is to provide recommendations to the Secretary of the Interior on how to create a 21st Century Conservation Service Corps (21CSC) to engage young Americans in public lands and water restoration. The 21CSC will focus on helping young people, including low-income, underserved, and diverse youth, gain valuable training and work experience while accomplishing needed conservation work on public lands.

The Department of the Interior is seeking nominations for individuals to be considered as Committee members. Nominations should describe and document the proposed member's qualifications for membership to the Committee, and include a resume listing their name, title, address, telephone, e-mail, and fax number.

DATES: Written nominations must be received by August 1, 2011.

ADDRESSES: Send nominations to: Gabrielle Horner, Partnerships Coordinator, Office of the Secretary, Department of the Interior, 1849 C Street, NW., Mailstop 3559, Washington DC 20240; Gabrielle_Horner@ios.doi.gov, (202) 208-5904.

FOR FURTHER INFORMATION CONTACT: Gabrielle Horner, Partnerships Coordinator, Office of the Secretary, Department of the Interior, 1849 C Street, NW., Mailstop 3559, Washington DC 20240; Gabrielle_Horner@ios.doi.gov, (202) 208-5904.

SUPPLEMENTARY INFORMATION: In accordance with the provisions of the Federal Advisory Committee Act (FACA), as amended (5 U.S.C. App. 2) and with the concurrence of the General Services Administration, the Department of the Interior is announcing the establishment of an advisory committee for the 21st Century Conservation Service Corps. The Committee is a discretionary advisory committee established under the authority of the Secretary of the Interior, in furtherance of the Take Pride in America Program, 16 U.S.C. 4601 et seq., and Ken Salazar, Department of the Interior, Thomas J. Vilsack, Department of Agriculture, Lisa P. Jackson, Environmental Protection Agency and Nancy J. Sutley, Council on Environmental Quality, America's Great Outdoors: A Promise to Future Generations (2011). The Committee will operate under the provisions of the FACA and will report to the Secretary of the Interior through the Director of the Office of Youth in the Great Outdoors, Office of the Secretary, as the Designated Federal Officer (DFO). The Office of Youth in the Great Outdoors will provide administrative and logistical support to the Committee.

The purpose of the Committee is to provide recommendations on: (1) Developing a framework for the 21CSC, including program components, structure, and implementation, as well as accountability and performance evaluation criteria to measure success; (2) the development of certification criteria for 21CSC providers and individual certification of 21CSC members; (3) strategies to overcome existing barriers to successful 21CSC program implementation; (4) identifying partnership opportunities with corporations, private businesses or entities, foundations, and non-profit groups, as well as state, local, and tribal governments, to expand support for conservation corps programs, career training and youth employment opportunities; (5) and developing pathways for 21 CSC participants for future conservation engagement and natural resource careers.

Members of the Committee shall include representatives from among, but not limited to, the following interest groups: Youth including High School, College and Graduate Students; State, Tribal, Local, or Private/Non-Profit Youth Employment Programs and/or Conservation Corps; Veteran Employment and Training Organizations; Philanthropic Organizations, Corporations or Industry Associations Investing in Youth Service or Employment and/or Conservation Programs; Groups Investing in Connecting Diverse or Underserved Youth to Conservation Service or Employment Opportunities; Outdoor Recreation Organizations & Associations; National Conservation or Environmental Groups; Hunting and Fishing Groups; Cultural and Historic Preservation Groups; Labor Organizations or Trade Groups; Colleges, Universities, and/or Community Colleges; and the Federal government including the Department of the Interior; Department of Agriculture; Environmental Protection Agency; Department of Labor; Department of Commerce; Department of Health and Human Services; U.S. Army Corps of Engineers; Office of Personnel Management; Council on Environmental Quality; and the Corporation for National and Community Service.

No individual who is currently registered as a Federal lobbyist is eligible to serve as a member of the Committee.

The Committee will meet approximately 4-6 times annually, and at such times as designated by the DFO.

Members of the Committee will serve without compensation.

Certification Statement: I hereby certify that the establishment of the 21st Century Conservation Service Corps Advisory Committee is necessary, is in the public interest and is established under the authority of the Secretary of the Interior, in furtherance of the Take Pride in America Program, 16 U.S.C. 4601 et seq., and Ken Salazar, Department of the Interior, Thomas J. Vilsack, Department of Agriculture, Lisa P. Jackson, Environmental Protection Agency and Nancy J. Sutley, Council on Environmental Quality, America's Great Outdoors: A Promise to Future Generations (2011).

Dated: June 27, 2011.
Ken Salazar,
Secretary of the Interior.

[FR Doc. 2011-16584 Filed 6-30-11; 8:45 am]

BILLING CODE 4310-10-P